ENVIRONMENTAL PROTECTION AGENCY

40 CFR Part 300

[FRL-7663-3]

National Oil and Hazardous Substance Pollution Contingency Plan; National Priorities List

AGENCY: Environmental Protection Agency.

ACTION: Direct final notice of deletion of the Odessa Chromium 2, North and South Plumes, Superfund Site from the National Priorities List.

SUMMARY: The Environmental Protection Agency (EPA) Region 6 is publishing a direct final notice of deletion of the Odessa Chromium 2, North and South Plumes, Superfund Site (Site) located in Odessa, Texas, from the National Priorities List (NPL).

The NPL, promulgated pursuant to section 105 of the Comprehensive Environmental Response, Compensation, and Liability Act (CERCLA) of 1980, as amended, is appendix B of 40 CFR part 300, which is the National Oil and Hazardous Substances Pollution Contingency Plan (NCP). This direct final notice of deletion is being published by EPA with the concurrence of the State of Texas, through the Texas Commission on Environmental Quality (TCEQ), because EPA has determined that all appropriate response actions under CERCLA have been completed and, therefore, further remedial action pursuant to CERCLA is not appropriate.

DATES: This direct final notice of deletion will be effective July 19, 2004, unless EPA receives adverse comments by June 21, 2004. If adverse comments are received, EPA will publish a timely withdrawal of the direct final notice of deletion in the Federal Register informing the public that the deletion will not take effect.

ADDRESSES: Comments may be mailed to: Donn Walters, Community Relations Coordinator (6SF-P), U.S. EPA, 1445 Ross Avenue, Dallas, Texas 75202-2733, (214) 665-6483 or 1-800-533-3508 (Toll Free). Comments can also be sent by e-mail to: walters.donn@epa.gov.

Information Repositories: Comprehensive information about the Odessa Chromium 2, North and South Plumes, Superfund Site is available for viewing and copying at the information repositories located at: U.S. Environmental Protection Agency Region 6, 12th Floor Library, 1445 Ross Avenue, Dallas, Texas 75202-2733, (214) 665-6427, Monday through Friday 7:30 a.m. to 4:30 p.m.; Texas Commission on Environmental Quality (TCEQ), Building D, Record Management, Room 190, 12100 North Interstate Highway 35, Austin, Texas 78753, (512) 239-2920, Monday through Friday 8 a.m. to 5 p.m.; Ector County Library, 321 West 5th Street, Odessa, Texas 79761, (915) 332-0633; and, Permian Basin Regional Planning Commission, 2910 La Force Blvd., Midland International Airport, Midland, Texas 79711, (915) 563-1061.

FOR FURTHER INFORMATION CONTACT: Ernest R. Franke, P.E., Remedial Project Manager (RPM) (6SF-AP), EPA Region 6, 1445 Ross Avenue—Suite 1200, Dallas, Texas, 75202-2733, (214) 665-8521 or 1-800-533-3508 (Toll Free) or by e-mail, franke.ernest@epa.gov.

SUPPLEMENTARY INFORMATION:

Table of Contents

I. Introduction

II. NPL Deletion Criteria

III. Deletion Procedures

IV. Basis for Site Deletion

V. Deletion Action

I. Introduction

The EPA Region 6 is publishing this direct final notice of deletion of the Odessa Chromium 2, North and South Plumes, Superfund Site from the NPL.

The EPA identifies sites that appear to present a significant risk to public health or the environment and maintains the NPL as the list of those sites. As described in § 300.425(e)(3) of the NCP, sites deleted from the NPL remain eligible for remedial actions if conditions at a deleted site warrant such action.

Because EPA considers this action to be noncontroversial and routine, EPA is taking it without prior publication of a notice of intent to delete. This action will be effective July 19, 2004, unless EPA receives adverse comments by June 21, 2004, on this notice to delete published in the “Proposed Rules” section of today's Federal Register. If adverse comments are received within the 30-day public comment period on this notice to delete, EPA will publish a timely withdrawal of this direct final notice of deletion before the effective date of the deletion and the deletion will not take effect. The EPA will, as appropriate, prepare a response to comments and continue with the deletion process on the basis of the notice of intent to delete and the comments already received. There will be no additional opportunity to comment.

Section II of this document explains the criteria for deleting sites from the NPL. Section III discusses procedures that EPA is using for this action. Section IV discusses the Odessa Chromium 2, North and South Plumes, Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. all appropriate Fund-financed (Hazardous Substance Superfund Response Trust Fund) response under CERCLA has been implemented, and no further response action by responsible parties is appropriate; or

iii. the remedial investigation has shown that the release poses no significant threat to public health or the environment and, therefore, the taking of remedial measures is not appropriate.

If new information becomes available which indicates a need for further action, EPA may initiate remedial actions. Whenever there is a significant release from a site deleted from the NPL, the deleted site may be restored to the NPL without application of the hazard ranking system.

III. Deletion Procedures

The following procedures apply to deletion of OU No. 1 and No. 2:

(1) The EPA consulted with the State of Texas through the Texas Commission on Environmental Quality (TCEQ), on the deletion of the Odessa Chromium 2, North and South Plumes, Superfund Site from the NPL prior to developing this direct final notice of deletion.

(2) The State of Texas through the TCEQ concurred with deletion of OU-1 and OU-2 of the Odessa Chromium 2, North and South Plumes, Superfund Site from the NPL in a letter dated November 19, 2003 (appendix A).

(3) Concurrently with the publication of this direct final notice of deletion, a notice of the availability of the parallel notice of intent to delete published today in the “Proposed Rules” section of the Federal Register is being published in the local newspaper of general circulation at or near the Odessa Chromium 2, North and South Plumes, Superfund Site and is being distributed to appropriate Federal, state, and local government officials and other interested parties; the newspaper notice announces the 30-day public comment period concerning the notice of intent to delete Odessa Chromium 2, North and South Plumes, Superfund Site from the NPL.

(4) The EPA placed copies of documents supporting the deletion of the Odessa Chromium 2, North and South Plumes, Superfund Site in the information repositories identified above.

(5) If adverse comments are received within the 30-day public comment period on this notice or the companion notice of intent to delete also published in today's Federal Register, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Odessa Chromium 2, North and South Plumes, Superfund Site from the NPL.

Site Location

The Odessa Chromium #2 Site is located and bounded approximately by 57th Street on the north, 50th Street on the south, Andrews Highway on the east, and a line which extends from Arthur Avenue north to 57th Street. Chromium was the contaminant of concern present in soil and ground water at the Site. Other heavy metal contaminants discovered during field investigations were below levels of concern. Apparently the contaminants entered the soil, and ultimately the ground water, from two source locations. One was on the corner of 57th Street and Andrews Highway, the other at 5329 Andrews Highway. The two locations resulted in two plumes of ground water contamination at the Site, known as the North Plume and the South Plumes. The North Plume area is north of 54th Street, and the South Plume area is located south of 54th Street.

Site History

The EPA first proposed the Odessa Chromium 2, North and South Plumes, Superfund Site for inclusion on the National Priorities List (NPL) in October 15, 1984, 49 FR 40320, 51 FR 21087. The North and South Plume locations had manufacturing and industrial operations that included the on-site disposal of water containing chromium. The chromium had contaminated drinking water supply wells serving residential, commercial, and industrial properties. The contamination was discovered after residents complained of discolored water. On September 8, 1986, the first Record of Decision (ROD) was signed for Operable Unit I (OU-1), the Alternate Water Supply (AWS). The remedy selected was an extension of the Odessa city water system to include potable water service to these areas.

The design of the AWS system was completed during December 1987, and the alternate water supply contract notice to proceed was issued on May 23, 1988. On November 3, 1988, the construction of 1190 linear feet of eight-inch water mains, 10 fire hydrants, necessary valves and fittings, 125 service taps and 106 meter boxes and meters and service connections was finalized by the City, and inspected and determined to be substantially complete by the EPA and the TCEQ, formerly the Texas Water Commission (TWC) and then the Texas Natural Resource Conservation Commission (TNRCC).

Remedial Investigation and Feasibility Study (RI/FS)

The State of Texas, through the Texas Natural Resource Conservation Commission (TNRCC) entered into a Cooperative Agreement with the EPA on September 26, 1984, to perform a Remedial Investigation (RI) and Feasibility Study (FS). The RI fieldwork (soils, ground water, sediment, and air sampling) began in August 1985 and a draft report was submitted in April 1986.

Further fieldwork (soils sampling) was conducted in November 1986, and a final RI report was accepted by TNRCC and EPA on May 1, 1987. A final draft report addressing comparison of the potential remedial alternatives was submitted in December 1987.

Based on these results, the soil was not the subject of a response action at the Odessa Chromium #2, North and South Plumes, Site: therefore, Operable Unit 2 (OU-2) addressed remediation of the ground water contamination and required additional investigation. The Remedial Investigation and Feasibility Study (RI/FS) for OU-2 characterized the affected ground water for both the North and South Plumes and was also conducted by the TNRCC. The final combined RI and FS were completed on March 18, 1988, and testing conducted during the RI/FS confirmed that total Site chromium concentrations in ground water exceeded 0.05 milligrams per liter (mg/l), the EPA's Maximum Contaminant Level (MCL) for total chromium at the time of the RI/FS investigation.

The land usage in the vicinity of the site was quite different in 1986 than at present. In 1986, there was considerable business activity in the area, with small repair yards and oil industry vehicle and machine support activities. There were also numerous residential mobile homes in the area. All of these activities were supported with water drawn from the Trinity Aquifer by private wells.

During the Remedial Investigation for OU-2, more than 400 wells were identified within a one-half mile radius of the Site, of which more than 300 were sampled and analyzed for total and hexavalent chromium. By 1994, many of the businesses and residents in the vicinity of the Site had left. In addition, the use of many of the private wells has been discontinued. Of the wells sampled, 13 were found to exceed the federally regulated drinking water standard for chromium of 0.05 mg/l. In addition, 12 new wells were installed within the Trinity aquifer and eight wells were installed in the perch zone during the remedial investigation. Of the new monitoring wells, seven contained chromium levels which significantly exceeded the drinking water standard. Contamination levels are highest in the perched zone (9.9 mg/l), and the Trinity aquifer has levels up to 3.3 mg/l. The north and south plumes are separated by 54th Street which is an east-west street in bearing, and the south plume being southward from 54th Street.

Characterization of Risk

A site-specific risk assessment was conducted as part of the RI/FS activities. Chromium concentrations present in Site soil are comprised of trivalent and hexavalent chromium. Trivalent chromium is not carcinogenic; however, hexavalent chromium is considered a carcinogen via the inhalation mode of exposure. Analytical data from the Site indicated the chromium concentrations found in the soil at the Site posed no significant risk to human health or the environment. In addition, extraction procedures leach toxicity test data conducted at the Site validated the contaminated soil resulted in no leachable chromium in excess of the EPA acceptable limit (5mg/l). Therefore, soil remediation was not considered necessary for the protection of human health and the environment.

Results of the risk assessment indicate that remedial action was required to reduce the potential for exposure through the consumption of contaminated ground water. The Agency for Toxic Substances and Disease Registry (ATSDR) supports this interpretation of the risk assessment for OU-2 which is Attachment B to the final ROD.

Record of Decision Findings for the OU-2

The ROD for OU-2, Ground Water, was signed on March 18, 1988, and the selected remedy required the following: Extraction of chromium-contaminated ground water from the perched water-bearing zone and the Trinity Aquifer; electrochemical treatment of ground water which exceeds the Primary Drinking Water Standard for chromium; reinjection of the treated ground water into the Trinity Aquifer; and, monitoring the site for a minimum of 30 years.

Remedial Design and Cleanup Activities performed on the plumes were activated by a Remedial Action Plan (RAP) for electrochemical treatment, which was approved by EPA in December of 1991 for both the North and South plumes. However, a potentially responsible party, Sequa Corporation, agreed to perform the remedy for the North Plume. The Consent Decree, which was effective on July 16, 1991, required Sequa Corporation to implement the remedy described in the ROD at the North Plume. On March 25, 1992, Sequa Corporation petitioned EPA to change the ground water treatment from electrochemical to ion exchange, citing lower projected remedial costs and the limited ability of electrochemical treatment to remove chromium present in the ground water in low concentrations.

The EPA issued an Explanation of Significant Differences (ESD) on June 28, 1994, to change the remedy from electrochemical treatment to treatment by ion exchange, subject to successful performance of the new technology.

The EPA issued a second ESD dated October 25, 1999, to permit use of ferrous sulfate treatment on the north and south plume, and a third ESD dated September 10, 2003, to eliminate the extended 30-year monitoring of the Site after completion of the remedial action on both the North and South Plumes.

The State of Texas (TCEQ) concurred with the Record of Decisions for OU-1 on September 8, 1986 and for OU-2 on March 18, 1988. The stated ESDs dated June 28, 1995; October 24, 1999; and September 10, 2003, respectively, had formal written concurrences from both TCEQ and Sequa.

Cleanup Standards

On January 1, 1991, the Primary Drinking Water Standard for chromium changed from 0.05 mg/l to 0.10 mg/l total chromium. The ground water cleanup standard for chromium on the Site was revised accordingly. Despite the change in the drinking water standard, concentrations of chromium in the North and South plumes, still exceeded the MCL of 0.10 mg/l.

Operation and Maintenance and Five-Year Review

As of June 2002, all wells at the Odessa Chromium #2 Site had met the project cleanup goal of remaining below the 0.1 mg/l MCL for total chromium for a period of three consecutive months. The EPA issued an ESD on September 10, 2003, which contained sampling results from more than eight years of quarterly monitoring for both the North Plume and the South Plume. After evaluation of these data, it was determined that the 30-year monitoring period requirement could be discontinued. Because this remedy will not result in hazardous substances, pollutants, or contaminants remaining on-site above levels that allow for unlimited use and unrestricted exposure, Operation and Maintenance activities and five-year reviews are not required for this Site.

Community Involvement

Public participation activities have been satisfied as required in CERCLA section 113(k), 42 U.S.C. 9613(k), and CERCLA section 117, 42 U.S.C. 9617. Documents in the Deletion Docket for the Odessa Chromium 2 Site which EPA relied on for recommendation of the deletion from the NPL are available to the public in the information repositories which can be found at the Ector County Library, Odessa, Texas; Permian Basin Regional Planning Commission, Midland International Airport, Midland, Texas; the EPA Region 6 Library in Dallas, Texas; and the TCEQ Library in Austin, Texas.

V. Deletion Action

The EPA, with concurrence of the State of Texas, through the TCEQ, has determined that all appropriate responses under CERCLA have been completed, and that no further response actions, under CERCLA are necessary. Therefore, EPA is deleting the Odessa Chromium 2, North and South Plumes, Superfund Site from the NPL. This deletion includes the deletion of both OU-1 and OU-2 from the NPL.

Because EPA considers this action to be noncontroversial and routine, EPA is taking it without prior publication of a notice of intent to delete. This action will be effective July 19, 2004, unless EPA receives adverse comments by June 21, 2004, on a parallel notice of intent to delete published in the “Proposed Rule” section of today's Federal Register. If adverse comments are received within the 30-day public comment period on the proposal, EPA will publish a timely withdrawal of this direct final notice of deletion before the effective date of the deletion and it will not take effect, and EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: April 28, 2004.
Richard E. Greene,
Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to Part 300 is amended by removing the entry for the Odessa Chromium 2 (Andrews Highway), Odessa, Texas.

[FR Doc. 04-11218 Filed 5-19-04; 8:45 am]

BILLING CODE 6560-50-P